INTERNATIONAL TRADE COMMISSION

Notice of Appointment of Individuals To Serve as Members of the Executive Resources Board

AGENCY: United States International Trade Commission.

ACTION: Appointment of individuals to serve as members of the executive resources board.

DATES: Effective: June 23, 2004.

FOR FURTHER INFORMATION CONTACT: Jeri L. Buchholz, Director of Human Resources, U.S. International Trade Commission (202) 205-2651.

SUPPLEMENTARY INFORMATION: The Chairman of the U.S. International Trade Commission has appointed the following individuals to serve on the Commission's Executive Resources Board (ERB): Vice Chairman Deanna T. Okun, Chairman of the ERB; Commissioner Marcia E. Miller; Lynn Levine; Stephen A. McLaughlin.

This notice is published in the Federal Register pursuant to the requirements of 5 U.S.C. 4314(c)(4). Hearing-impaired individuals are advised that information on this matter can be obtained by contacting our TDD terminal on (202) 205-1810.

By order of the Chairman.
Issued: July 9, 2004.
Marilyn R. Abbott,
Secretary to the Commission.

[FR Doc. 04-15986 Filed 7-14-04; 8:45 am]

BILLING CODE 7020-02-P